DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed continuing collection of the data contained on the Workforce Investment Act Cumulative Quarterly Financial Reports (ETA 9076 A-F). A copy of the proposed information collection request (ICR) can be obtained by contacting the office listed below in the addressees section of this notice.

DATES: Written comments must be submitted to the office listed in the addressees section below on or before October 23, 2000.

ADDRESSES: Isabel Danley, Division of Financial Grants Management Policy and Review, Office of Grants and Contract Management, United States Department of Labor, Employment and Training Administration, 200 Constitution Ave. NW, Rm. N-4720, Washington, D.C. 20210, (202-219-5731 x115—not a toll free number) and, Internet address: IDanley@DOLETA.GOV and/or FAX: (202-208-1551).

SUPPLEMENTARY INFORMATION:

I. Background

Pursuant to Public Law 105-220, dated August 7, 1998 and 20 CFR 652, et al., Workforce Investment Act (WIA) Interim Final Rule, dated April 15, 1999; and in accordance with the Paperwork Reduction Act of 1995, the Department of Labor, Employment and Training Administration, requested Office of Management and Budget approval of financial data information formats for use in quarterly electronic collection of required financial data from the States. An OMB Notice of Action No. 1205-0408, dated May 23, 2000, provided authority for the Department to issue WIA prototype reporting formats and corresponding instructions to the States via Training and Employment Guidance Letter (TEGL) No. 16-99, dated June 23, 2000. The data elements contained on the prototype formats have subsequently been incorporated into software which has been provided electronically to the States to enable direct Internet reporting. This proposed collection notice is requesting a three year extension of the currently approved WIA financial reporting requirements which expire on November 30, 2000.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology e.g., permitting electronic submissions of response.

III. Current Actions

The continuing collection of information must be approved so that the Department can effectively manage and evaluate the WIA program in compliance with the requirements set forth in Public Law 105-220 and 20 CFR 652 et al., Workforce Investment Act; Final Rules, dated August 11, 2000.

Type of Review: Extension.

Agency: Employment and Training Administration.

Title: Workforce Investment Act (WIA), Employment and Training Administration, Financial Reporting Requirements.

OMB Number: 1205-0408.

Agency Numbers: ETA 9076 A-F.

Frequency: Quarterly.

Affected Public: States, local governments, Private industry Councils and/or other for profit and non-profit institutions.

Reporting Burden: See the following Reporting Burden Table for States to report requested WIA financial data electronically on formats ETA 9076 A-F.

DOL-ETA Reporting Burden for WIA Title I-B States *
Requirements | PY 1999 | PY 2000 | PY 2001 | PY 2002
Number of reports per entity per quarter | 3 | 3 | 3 | 3
Total number of reports per entity per year | 12 | 12 | 12 | 12
Number of hours required per report | 1 | 1 | 1 | 1
Total number of hours required for reporting per entity per year | 12 | 12 | 12 | 12
Number of entities reporting | 16 | 56 | 56 | 56
Total number of hours required for reporting burden per year | 192 | 672 | 672 | 672
Total burden cost @ $23.45 per hour | $4,502 | $15,758 | $15,758 | $15,758
* Revised July 2, 1999.

Note: Number of reports required peer entity per quarter/per year is impacted by the 3 year life of each year of appropriated funds, i.e., PY 1997 and 1998 funds are available for expenditure in PY 1999, thus 3 reports reflect 3 available funding years. DOL estimates 16 entities reporting for PY 1999. Beginning in PY 2000, all entities (56) are required to report under WIA.

Comment submitted in response to this comment request will be summarized and/or included in the request for Office of Management and Budget approval of the information collection request; they will also become a matter of public record.

Dated: August 16, 2000.
Bryan T. Keilty,
Director, Office of Financial and Administrative Management.

[FR Doc. 00-21328 Filed 8-21-00; 8:45 am]

BILLING CODE 4510-30-M